DEPARTMENT OF JUSTICE

Notice of Lodging of Proposed Consent Decree Under the Comprehensive Environmental Response, Compensation, and Liability Act

On September 28, 2016, the Department of Justice lodged a proposed consent decree with the United States District Court for the District of Columbia in the lawsuit entitled United States v. Anthony Spanos, Inc., et al., Civil Action No. 1:14-cv-01625-RJL.

The United States filed this lawsuit under the Comprehensive Environmental Response, Compensation, and Liability Act (“CERCLA”). The United States' complaint names Anthony Spanos, Inc., George A. Spanos, in his capacity as the trustee of the George A. Spanos Living Trust, and Gus Dinos as defendants. The United States' complaint seeks recovery of costs incurred and to be incurred by the Environmental Protection Agency in connection with the removal of hazardous substances at the Georgia Avenue PCE Site, located in Northwest Washington, DC. The consent decree resolves the United States' claims against George A. Spanos and does not resolve the United States' claims against Anthony Spanos, Inc. and Gus Dinos. George A. Spanos agrees to pay $125,000 of the United States' response costs and to perform the operation and maintenance of sub-slab depressurization systems at the Site. In return, the United States agrees not to sue George A. Spanos under sections 106 and 107 of CERCLA.

The publication of this notice opens a period for public comment on the consent decree. Comments should be addressed to the Assistant Attorney General, Environment and Natural Resources Division, and should refer to United States v. Anthony Spanos, Inc., et al., D.J. Ref. No. 90-11-3-10721. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $11.25 (25 cents per page reproduction cost) payable to the United States Treasury.

Robert Brook,
Assistant Section Chief, Environmental Enforcement Section, Environment and Natural Resources Division.

[FR Doc. 2016-23926 Filed 10-3-16; 8:45 am]

BILLING CODE 4410-15-P